DEPARTMENT OF TRANSPORTATION

National Highway Traffic Safety Administration

[Docket No. NHTSA-2008-0108]

Quiet Cars Notice of Public Meeting and Request for Comments

AGENCY: National Highway Traffic Safety Administration (NHTSA), Department of Transportation (DOT).

ACTION: Notice of public meeting, request for information.

SUMMARY: NHTSA is having a public meeting to bring together government policymakers, stakeholders from the blind community, industry representatives and public interest groups to discuss the safety of blind pedestrians encountering quiet cars including hybrids, all-electric vehicles and quiet internal combustion engine vehicles. This public meeting and the request for information, is an opportunity for an exchange among interested parties, as well as the public, on the technical and safety policy issues related to increasingly quieter cars and blind pedestrians. The date, time, location, and framework for this public meeting are announced in this notice.

DATES: Public Meeting: The public meeting will be held on June 23, 2008, from 9 a.m. to 3 p.m. at the Grand Hyatt Washington, Washington, DC.

Comments: Written comments may be submitted to the agency and must be received no later than August 1, 2008.

FOR FURTHER INFORMATION CONTACT: Mrs. Debbie Ascone, Office of the Senior Associate Administrator for Vehicle Safety, NHTSA, telephone 202-366-4383, e-mail Debbie.Ascone@dot.gov. She may also be reached at 1200 New Jersey Avenue, SE., Washington, DC 20590.

ADDRESSES: Public meeting: The public meeting will be held at the Grand Hyatt Washington, 1000 H Street, NW., Washington, DC 20001, telephone: 202-637-4764.

Written comments: Written comments on this meeting and topic must refer to the docket number of this notice and be submitted by any of the following methods:

• Federal eRulemaking Portal: Go to http://www.regulations.gov. Follow the online instructions for submitting comments.

• Fax: 1-202-493-2251.

• Mail: Docket Management Facility, M-30, U.S. Department of Transportation, West Building, Ground Floor, Rm. W12-140, 1200 New Jersey Avenue, SE., Washington, DC 20590.

• Hand Delivery: West Building Ground Floor, Room W12-140, 1200 New Jersey Avenue, SE., between 9 am and 5 pm Eastern Time, Monday through Friday, except Federal holidays.

Regardless of how you submit your comments, you should mention the docket number of this document.

You may call the Docket Management Facility at 202-366-9826.

Instructions: For detailed instructions on submitting comments, see the Procedural Matters section of this document. Note that all comments received will be posted without change to http://www.regulations.gov, including any personal information provided.

SUPPLEMENTARY INFORMATION:

Background

According to R.L. Polk & Co, registration for new hybrid vehicles rose to 350,289 registrations in 2007.¹ While hybrid vehicles remain a small portion of new registered vehicles, registrations of hybrids increased 38% from 2006 to 2007. A hybrid electric vehicle (HEV) is more commonly defined as a vehicle which combines a conventional propulsion system (such as a gasoline or diesel engine) with an electric motor and has an on-board rechargeable energy storage system (such as batteries) to achieve better fuel economy than a conventional vehicle. HEVs prolong the charge on their batteries by capturing kinetic energy via regenerative braking, and some HEVs can use the combustion engine to generate electricity by spinning an electrical generator (often a motor-generator) to either recharge the battery or directly feed power to an electric motor that drives the vehicle. All HEVs have a start/stop system which can turn off the engine at idle and restart it when needed. Some hybrids are capable of being driven by only the electric motor at lower speeds (generally up to 25 mph). As such, these vehicles can be significantly quieter than conventional gasoline powered vehicles.

¹ http://usa.polk.com/news/latestnews/news_2008_0421_hybrids.htm.

Deborah Kent Stein discusses an emerging problem with HEVs in the following:

“When the hybrid is traveling at low speeds, the electric motor is very quiet. The problem arises when a hybrid car, powered by its electric motor, is traveling at slow to moderate speeds—as when it moves along a side street, emerges from a driveway or parking lot, or starts up after a red light or stop sign. Under these circumstances the engine is silent, and there is little or no sound from tire friction or wind resistance. In addition nearly all hybrids come to a full stop at red lights or stop signs, shutting off the engine completely. The engine does not idle, emitting a low, telltale purr. It makes no sound at all. A blind traveler has no indication that a car is present and preparing to move forward at any moment.” ²

² Stop, Look, and Listen: Quiet Vehicles and Pedestrian Safety by Deborah Kent Stein; from: The Braille Monitor, June 2005.

Mrs. Stein, chairman for the National Federation of the Blind (NFB), Committee on Automobile and Pedestrian Safety/Quiet Cars made this statement in the article “Stop, Look and Listen: Quiet Vehicles and Pedestrian Safety,” in the June 2005 issue of The Braille Monitor. NHTSA recognizes this is a potential safety problem and is responding to the concern and investigating the hazard of quieter vehicles to pedestrians, cyclists and others who need to be aware of approaching cars that are out of their line of sight.

While the size of the specific problem is currently unknown, the total number of pedestrian crashes in 2006 was 65,404 resulting in 4,784 fatalities and an estimated 61,000 injuries.

Since August 2007, NHTSA has been working through the Society of Automotive Engineers International (SAE) to identify effective ways to address the safety issue with quieter vehicles. The Alliance of Automobile Manufacturers and the Association of International Automobile Manufacturers, along with the SAE have formed the Vehicle Sound for Pedestrians Subcommittee under the SAE Safety and Human Factors Committee.³ This subcommittee, Vehicle Sounds for Pedestrians (VSP), created the three following Task Forces to gather information to assist in determining the technical approaches to address the problem: Audience for specification, target sound level, and type of sound and driving conditions for the sound. The VSP subcommittee is currently working to both define the issue and understand the conditions in which these types of incidents occur and expects to propose and evaluate different methods to address the issues as these factors are better understood.

³ http://www.sae.org/servlets/works/committeeHome.do?comtID=TEITSSHF.

Further work of the VSP subcommittee will explore: who will benefit from the establishment of a minimum sound level for motor vehicles, what that sound level should be and the type of sound that will be necessary to have the desired effect, and under what vehicle and ambient conditions the sound is required to be heard and measured. The subcommittee is currently in the data gathering stage: what incidents have happened, where, and under what conditions. Different data sources have been identified and approached. Concurrently, the task force on sound measurement is preparing an outline for a test procedure to measure vehicle operating sounds.

Thus far, this group of human factors experts also includes a member of the American Council for the Blind and a representative of NHTSA. The group is regularly meeting at four-week intervals to study possible ways of improving the detection of quiet cars by pedestrians and to explore the feasibility of proposing an SAE Recommended Practice. In addition to the SAE initiative, NFB has commissioned Dr. Lawrence Rosenblum at the University of California-Riverside to investigate the sound made by hybrids and people's ability to detect them. At Stanford University, with financial help from the NFB, researchers have developed a prototype sound generating device that receives information about the vehicle function and transmits the information to speakers placed on the vehicle. While this vehicle-based system is one potential countermeasure for quieter vehicles, NHTSA, the automotive industry and the SAE subcommittee will continue their efforts to identify the most appropriate and effective countermeasures. In the United States House of Representatives, a bill has been introduced entitled the “Pedestrian Safety Enhancement Act of 2008,” which, if enacted, requires the Secretary of Transportation to study and establish a motor vehicle safety standard that provides for a means of alerting blind and other pedestrians of motor vehicle operation.⁴ Additionally, in December 2007, NHTSA met with representatives of the NFB to discuss this issue.

⁴ http://thomas.loc.gov/cgi-bin/query/D?c110:1:./temp/~c110LBBXF7::.

Public Meeting

NHTSA is having this public meeting to discuss the technical and safety policy issues associated with the increasing presence of quieter cars and the risks to blind pedestrians. The meeting will bring together State and local government policy makers, stakeholders in the blind community, industry representatives and public interest groups.

The meeting will be open to the public, but presentations will be by invitation only. Time will be designated for open floor discussion by the general audience. Meeting participants and the public are also invited to submit comments on this issue to the docket. All materials to be presented are asked to be submitted to NHTSA in advance for appropriate dissemination to visually impaired attendees.

The sections below describe the discussion of topics for the meeting.

Statement of Problem

Representatives of the blind community will discuss the problem facing blind pedestrians around quieter vehicles. The discussion should include the explanation and known size of the problem. The presentations should identify specific situations in which vehicles are hard to hear, the sound cues that are necessary in detecting a vehicle and which of those cues are absent in those problematic locations. To gain a better understanding of the desired outcome to this problem, representatives of the blind community should discuss general ways to increase the safety of blind pedestrians and potential solutions—both desirable and undesirable to the blind community.

Pedestrian Safety

Pedestrian safety is a difficult but important issue both nationally and internationally. Presentations should discuss pedestrian safety in general as well as specifically related to the blind community. Any known incidents with pedestrians, in general and involving the blind, and quieter vehicles will be detailed. Data collection challenges should also be discussed as well as the needs to improve this data collection. There will also be discussion of current technologies to aide the blind community in safer pedestrian travel. A NHTSA representative will discuss ongoing and planned activities for pedestrian safety, identifying potential activities that could be enhanced for the blind. A representative from the international vehicle safety community will present information about the problem globally as well as work in other nations to address pedestrians and quieter vehicles. The discussion should also include international standards for pedestrian safety and any potential solutions for this problem that have been researched internationally.

Sound Measurement and Mobility

In developing a solution to assist blind pedestrians around quieter cars, a few fundamental questions must be addressed. Presentations on this topic should include discussions of which sounds of a vehicle should be measured and the means by which to measure that sound. Any studies into this area should also be included. Sound experts should also describe average noise levels as reference points for the audience as well as extreme noise levels—both low and high extremes. A mobility expert should discuss sound cues for blind individuals and any measurement studies related to the field. There should also be discussion on mobility in rural areas and locations that lack the infrastructure for technology.

Automotive Industry Perspective

A representative from the automobile industry should speak about how the industry is addressing the problem. The discussion should include information on what current and future vehicles would qualify as quiet cars as well as what features of the car cause the reduction in sound. The automobile industry representative should also discuss what the industry is willing to commit to, product development and lead time for vehicle-based solutions.

SAE Work and Status

As was discussed previously, SAE has a subcommittee dedicated to this topic and has active working groups looking at specific details. An SAE spokesperson will discuss the process in general and the current status of this work. Additional details of the working groups should be laid out at the meeting and the representative should describe the needs of the subcommittee to continue work and expedite both the work and the process.

Potential Solutions

Research into potential ways to address this issue should include vehicle-, person-, and infrastructure-based approaches. Presentations should include current and past research into each of these areas, literature and conclusions from such. Product development, effectiveness, lead time, cost and public acceptance of solutions should also be discussed. Any potential solution that is currently marketed or planned for market would be included in this discussion as well as the history of the development of the product.

Noise Abatement

While the lower sound of vehicles presents a safety concern for blind pedestrians, it also provides a solution to the health concern arising from noise pollution. Presentations on this topic should include federal and local perspective on noise pollution as well as the jurisdiction of noise pollution laws. The discussion should also include studies about what levels of sound are dangerous to health and studies into the magnification of sound presented by large numbers of vehicles or vehicles in confined spaces. Current or planned efforts to reduce the sound emitted by vehicles should also be discussed along with supporting research into determination of said maximum levels.

Procedural Matters

The meeting will be open to the public with advanced registration for seating on a space-available basis. Individuals wishing to register to assure a seat in the public seating area should provide their name, affiliation, phone number and e-mail address to Mrs. Debbie Ascone using the contact information at the beginning of this notice. Should it be necessary to cancel the meeting due to an emergency or some other reason, NHTSA will take all available means to notify registered participants by e-mail or telephone.

The meeting will be held at a site accessible to individuals with disabilities. Individuals who require accommodations such as sign language interpreters should contact Ms. Debbie Ascone by June 16, 2008. All written materials to be presented at the meeting will be available electronically on the day of the meeting to accommodate the needs of the visually impaired. A transcript of the meeting and other information received by NHTSA at the meeting will be placed in the docket for this notice at a later date.

How can I submit comments on this subject?

It is not necessary to attend or to speak at the public meeting to be able to comment on the issues. NHTSA invites readers to submit written comments which the agency will consider in its research and proceedings with the safety of quiet cars and pedestrians.

How do I prepare and submit comments?

Your comments must be written and in English. To ensure that your comments are correctly filed in the Docket, please include the docket number of this document in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://regulations.gov.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Ave., SE., Washington, DC 20590. Include a cover letter supplying the information specified in our confidential business information regulation (49 CFR part 512).

In addition, send two copies from which you have deleted the claimed confidential business information to Docket Management, 1200 New Jersey Ave., SE., West Building, Room W12-140, Washington, DC 20590, or submit them electronically, in the manner described at the beginning of this notice.

Will the agency consider late comments?

We will consider all comments that Docket Management receives before the close of business on the comment closing date indicated above under DATES. To the extent possible, we will also consider comments that Docket Management receives after that date.

Please note that even after the comment closing date, we will continue to file relevant information in the docket as it becomes available. Further, some people may submit late comments. Accordingly, we recommend that you periodically check the docket for new material.

How can I read the comments submitted by other people?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 49 U.S.C. 30111, 30168; delegation of authority at 49 CFR 1.50 and 501.8.

Ronald L. Medford,
Senior Associate Administrator, Vehicle Safety.

[FR Doc. E8-12041 Filed 5-29-08; 8:45 am]

BILLING CODE 4910-59-P